DEPARTMENT OF STATE

[Public Notice 11762]

Notice of Public Meeting in Preparation for the International Maritime Organization III 8 Meeting

The Department of State will conduct a public meeting at 10:00 a.m. on Friday, July 22, 2022, by way of teleconference. The primary purpose of the meeting is to prepare for the eighth session of the International Maritime Organization's (IMO) Sub-Committee on Implementation of IMO Instruments (III 8) to be held virtually from Monday, July 25, 2022 to Friday, July 29, 2022.

Members of the public may participate up to the capacity of the teleconference phone line, which can handle 500 participants. To attain details on the teleconference line, participants should contact the meeting coordinator, Mr. Chris Gagnon, by email at christopher.j.gagnon@uscg.mil.

The agenda items to be considered at the public meeting mirror those to be considered at III 8, and include:

—Decisions of other IMO bodies;

—Consideration and analysis of reports on alleged inadequacy of port reception facilities;

—Lessons learned and safety issues identified from the analysis of marine safety investigation reports;

—Measures to harmonize port state control (PSC) activities and procedures worldwide;

—Development of an entrant training manual for PSC personnel;

—Identified issues related to the implementation of IMO instruments from the analysis of PSC data;

—Analysis of consolidated audit summary reports;

—Development of guidance in relation to IMSAS to assist in the implementation of the III Code by Member States;

—Updated survey guidelines under the Harmonized System of Survey and Certification (HSSC);

—Non-exhaustive list of obligations under the instruments relevant to the IMO Instruments Implementation Code (III Code);

—Development of guidance on assessments and applications of remote surveys, ISM Code audits and ISPS Code verifications;

—Unified interpretation of provisions of IMO safety, security, and environment related conventions; and

—Follow-up work emanating from the Action Plan to address plastic litter from ships.

Please note: the IMO may, on short notice, adjust the III 8 agenda to accommodate the constraints associated with the virtual meeting format. Any changes to the agenda will be reported to those who RSVP.

Those who plan to participate may contact the meeting coordinator, Mr. Christopher Gagnon, by email at christopher.j.gagnon@uscg.mil, by phone at (202) 372-1231, or in writing at 2703 Martin Luther King Jr. Ave. SE, Stop 7501, Washington, DC 20593-7509. Members of the public needing reasonable accommodation should advise Mr. Gagnon not later than July 8, 2022. Requests made after that date will be considered, but might not be possible to fulfill.

Additional information regarding this and other IMO public meetings may be found at: https://www.dco.uscg.mil/IMO.

(Authority: 22 U.S.C. 2656.)

Emily A. Rose,
Coast Guard Liaison Officer, Office of Ocean and Polar Affairs, Department of State.

[FR Doc. 2022-12876 Filed 6-14-22; 8:45 am]

BILLING CODE 4710-09-P